DEPARTMENT OF STATE

[Public Notice 4523]

Advisory Committee on Labor Diplomacy; Notice of Meeting

The Advisory Committee on Labor Diplomacy (ACLD) will hold a meeting beginning at 9 a.m. on November 17, 2003 in room 1406, U.S. Department of State, 2201 C Street, NW., Washington, DC 20520. Committee Chairman Thomas R. Donahue, former President of the AFL-CIO, will chair the meeting.

The ACLD is composed of prominent persons with expertise in the area of international labor policy and labor diplomacy. The ACLD advises the Secretary of State and the President on the resources and policies necessary to implement labor diplomacy programs efficiently, effectively and in a manner that ensures success in promoting the objectives and ideals of U.S. labor policies in the 21st century. The ACLD makes recommendations on how to strengthen the Department of State's ability to respond to the many challenges facing the United States and the federal government in international labor matters. These challenges include the protection of worker rights, the elimination of exploitative child labor, and the prevention of abusive working conditions.

The agenda for the November 17 meeting includes:

(1) Reading of the minutes of the last ACLD meeting;

(2) Review of the developments in Afghanistan, Iraq and the Middle East since the last ACLD meeting on May 2, 2003;

(3) Discussion of alternative proposals for labor diplomacy in Afghanistan, Iraq and the Middle East.

Members of the public are welcome to attend the meeting as seating capacity allows. As access to the Department of State is controlled, persons wishing to attend the meeting must be pre-cleared by calling or faxing the following information, by close of business November 11, to Executive Director, ACLD, Jean Gardner at tel. (202) 647-3664, or fax (202) 647-0431, e-mail Gardnerdj@state.gov; name, company or organization affiliation (if any); date of birth; and social security number. Pre-cleared persons should use the C Street entrance to the State Department and have a driver's license with photo, a passport, a U.S. Government ID or other valid photo identification.

Members of the public may, if they wish, submit a brief statement to the Committee in writing. Those wishing further information should contact Ms. Gardner at the phone and fax numbers provided above.

Dated: October 27, 2003.
Loren Craner,
Assistant Secretary, Bureau of Democracy, Human Rights and Labor, Department of State.

[FR Doc. 03-27600 Filed 10-31-03; 8:45 am]

BILLING CODE 4710-18-P